DEPARTMENT OF THE INTERIOR

Bureau of Land Management

[LLNVB0l000.L 71220000.EX0000.LVTFF1486020 MO# 4500101184]

Notice of Availability of the Draft Environmental Impact Statement for the Proposed Deep South Expansion Project, Lander and Eureka Counties, Nevada; Correction

AGENCY: Bureau of Land Management, Interior.

ACTION: Notice; Correction.

SUMMARY: The Bureau of Land Management (BLM) published a document in the Federal Register on October 22, 2018, announcing the availability of a Draft Environmental Impact Statement (EIS) and the opening of the public comment period. The Notice included inaccurate website links for submitting comments, and to access the Draft EIS. This notice corrects the errors to provide accurate links.

FOR FURTHER INFORMATION CONTACT: Jennifer Noe, by telephone, 202-912-7442, or by email, jnoe@blm.gov.

CORRECTION: In the Federal Register of October 22, 2018, in FR Doc. 2018-22979, on page 53292, in the second column, correct the “Addresses” caption to read:

ADDRESSES: You may submit comments by any of the following methods:

• Email: blm_nv_bmdo_mlfo_DeepSouthEIS@blm.gov.

• Mail: 50 Bastian Road, Battle Mountain, Nevada 89820.

• Fax: 775-635-4034.

In the Federal Register of October 22, 2018, in FR Doc. 2018-22979, on page 53292, in the second column, correct the Dates caption to read:

DATES: To ensure comments will be considered, the BLM must receive written comments on the Draft EIS within 45 days following the date the Environmental Protection Agency publishes its Notice of Availability in the Federal Register. The date(s) and location(s) of any public meetings or other public involvement activities will be announced at least 15 days in advance through public notices, media releases, local media, newspapers, mailings, and the BLM website at: https://go.usa.gov/xP9wk.

Jeff Krauss,
Acting Assistant Director, Communications.

[FR Doc. 2018-24011 Filed 11-1-18; 8:45 am]

BILLING CODE 4310-HC-P